DEPARTMENT OF DEFENSE

Department of the Air Force

[USAF-2007-0013]

Privacy Act of 1974; System of Records

AGENCY: Department of the Air Force.

ACTION: Notice to Amend a System of Records.

SUMMARY: The Department of the Air Force proposes to amend a system of records to its inventory of record systems subject to the Privacy Act of 1974 (5 U.S.C. 552a), as amended.

DATES: The proposed action will be effective on March 29, 2007 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 20, 2007.
C.R. Choate,
Alternative OSD Federal Register Liaison Officer, Department of Defense.

F036 AETC M

System name:

Air University Academic Records (March 27, 2003, 68 FR 14951).

Changes:

* * * * *

System location:

Replace entry with “Air University, Maxwell Air Force Base, AL 36112-6337. Air Force Institute of Technology, Admissions and Registrars Office (AFIT/ENER) Wright-Patterson Air Force Base, OH 45433-7765.”

Categories of individuals covered by the system:

Replace entry with “Graduates and students currently or previously enrolled in Air Force Institute of Technology (AFIT), Air University (AU) schools to include Air Force Institute of Advanced Distributed Learning (formerly, ECI).”

Categories of records in the system:

Replace entry with “Education records which include transcripts; test scores; completion/non-completion status; course grades; type of degree earned; rating of distinguished, outstanding or excellent graduate as appropriate; and other documents associated with academic records.”

* * * * *

Safeguards:

Replace entry with “Records are accessed by custodian of the record system and by person(s) responsible for servicing the record system in performance of their official duties and who are properly screened and cleared for need-to-know. All records in the system are attended by responsible Air Force personnel during duty hours and stored in locked facilities under constant or periodic surveillance by Air Force Security Forces during non-duty hours. Those in computer storage devices are protected by computer system software.”

Retention and disposal:

Replace entry with “Permanent records.”

* * * * *

F036 AETC M

System name:

Air University Academic Records.

System location:

Air University, Maxwell Air Force Base, AL 36112-6337.

Air Force Institute of Technology, Admissions and Registrars Office (AFIT/ENER) Wright-Patterson Air Force Base, OH 45433-7765.

Categories of individuals covered by the system:

Graduates and students currently or previously enrolled in Air Force Institute of Technology (AFIT), Air University (AU) schools to include Air Force Institute of Advanced Distributed Learning (formerly, ECI).

Categories of records in the system:

Individual name; SSN; transcripts; test scores; completion/non-completion status; course grades; type of degree earned; rating of distinguished, outstanding or excellent graduate as appropriate; and other documents associated with academic records.

Authority for maintenance of the system:

10 U.S.C. 8013, Secretary of the Air Force; Air Force Instruction 36-2201, Air Force Training Program; Air Force Instruction 36-2301, Professional Military Education; and E.O. 9397 (SSN).

Purpose(s):

To support the core functions for the administration of academic records required for graduate education, professional military education, and continuing education. The system will provide academic records that meet the requirements of academic accreditation of Air University's various educational programs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” published at the beginning of the Air Force's compilation of systems of records notices apply to this system.

Policies and practices for storing, retrieving, accessing, retaining, and disposing of records in the system:

Storage:

Paper in file folders and on electronic storage media.

Retrievability:

Retrieved by name and Social Security Number (SSN).

Safeguards:

Records are accessed by custodian of the record system and by person(s) responsible for servicing the record system in performance of their official duties and who are properly screened and cleared for need-to-know. All records in the system are attended by responsible Air Force personnel during duty hours and stored in locked facilities under constant or periodic surveillance by Air Force Security Forces during non-duty hours. Those in computer storage devices are protected by computer system software.

Retention and disposal:

Permanent records.

System manager(s) and address:

Registrar, Air Force Institute of Technology, Wright-Patterson Air Force Base, OH 45433-7765.

Air University Registrar, Maxwell Air Force Base, AL 36112-6337.

Notification procedure:

Individuals seeking to determine whether information about themselves is contained in this system should address written inquiries to or visit the Registrar, Air Force Institute of Technology, Wright-Patterson Air Force Base, OH 45433-7765; Air University Registrar, Maxwell Air Force Base, AL 36112-6337.

Requests should contain full name, Social Security Number (SSN) and class designation.

Individuals may visit the Office of the Registrar. Identification is required.

Record access procedures:

Individuals seeking access to information about themselves contained in this system should address written inquiries to or visit the Registrar, Air Force Institute of Technology, Wright-Patterson Air Force Base, OH 45433-7765; Air University Registrar, Maxwell AFB AL 36112-6337.

Requests should contain full name, Social Security Number (SSN) and class designation.

Individuals may visit Office of the Registrar. Identification is required.

Contesting record procedures:

The Air Force rules for accessing records, and for contesting contents and appealing initial agency determinations are published in Air Force Instruction 33-332; 32 CFR part 806b; or may be obtained from the system manager.

Record source categories:

Information obtained from educational institutions, source documents such as reports, testing agencies, student, and on-the-job training officials.

Exemptions claimed for the system:

None.

[FR Doc. E7-3305 Filed 2-26-07; 8:45 am]

BILLING CODE 5001-06-P